ENVIRONMENTAL PROTECTION AGENCY

[FRL: 10023-03-OMS]

Privacy Act of 1974; System of Records

AGENCY: Office of Mission Support, Environmental Protection Agency.

ACTION: Notice of a modified system of records.

SUMMARY: The U.S. Environmental Protection Agency's Office of Mission Support is giving notice that it proposes to modify a system of records pursuant to the provisions of the Privacy Act of 1974. The Office of Mission Support is modernizing the Debarment and Suspension Files system of records by implementing an electronic case management system: Case Application for Debarment and Suspension. Case Application for Debarment and Suspension is an electronic records management system that supports the Environmental Protection Agency in assembling information in order to conduct and document discretionary suspension and debarment proceedings under the Federal Acquisition Regulation or the Non procurement Common Rule (2 CFR part 180), as well as to carry out the Environmental Protection Agency's obligations to process statutory exclusions under Clean Air Act section 306 and Clean Water Act section 508. The Office of Mission Support is accordingly modifying its system of records notice EPA-33 in several respects. All other exemptions and provisions included in the previously published system of records notice for Debarment and Suspension Files will transfer to the modified system of records notice for Case Application for Debarment and Suspension.

DATES: Persons wishing to comment on this system of records notice must do so by July 6, 2021. New or modified routine uses for this modified system of records will be effective July 6, 2021.

ADDRESSES: Submit your comments, identified by Docket ID No. EPA-HQ-OMS-2020-0281, by one of the following methods:

Regulations.gov: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2020-0281. The Environmental Protection Agency's (EPA) policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Marcella James, Office of Grants and Debarment, Office of Mission Support, Environmental Protection Agency, Ronald Reagan Building, Mail Code 3901R, 1300 Pennsylvania Avenue NW, Washington, DC 20460; telephone number, (202) 564-2572; email address, James.Marcella@epa.gov.

SUPPLEMENTARY INFORMATION: The Office of Mission Support is transitioning from a paper filing system under the Debarment and Suspension Files system of records to a new electronic case management system, Case Application for Debarment and Suspension (CADS). The EPA is accordingly modifying its system of records notice (SORN) EPA-33 in several respects.

First, the Office of Mission Support is updating the system name to Case Application for Debarment and Suspension (CADS).

Second, because all records in CADS are electronic instead of in paper form, the system location is modified to the physical location of the CADS computer storage devices in the EPA National Computer Center (NCC).

Third, the Office of Mission Support processes suspension and debarment case actions under the Federal Acquisition Regulation (FAR) Subpart 9.4 (procurement regulations) and 2 CFR part 180 and part 1532 (nonprocurement regulations). The Office of Mission Support also processes statutory exclusions under Clean Air Act section 306 and Clean Water Act section 508 and 2 CFR part 1532, subpart J. EPA-33 already includes individuals subject to suspension and debarment case actions under the procurement and nonprocurement regulations, but does not include statutory exclusions under Clean Air Act section 306 and Clean Water Act section 508. The Office of Mission Support is therefore modifying EPA-33 to include individuals subject to a statutory exclusion under the Clean Air Act or Clean Water Act as categories of individuals covered by the system, and to include statutory exclusion records as categories of records in the system and record source categories.

Fourth, the Office of Mission Support is also updating the routine uses of records maintained in EPA-33. The Office of Mission Support is modifying routine uses 1-5 as follows:

• For routine use 1, updating the exclusion database name to the System for Award Management (SAM) to reflect changes made by the General Services Administration (GSA) to the name of the exclusion list, and updating the nonprocurement regulation citation so that it is accurate.

• For routine use 2, adding statutory exclusions as a type of suspension and debarment proceeding, and re-numbering routine use 2 to routine use 3.

• For routine use 3, adding procurement transactions to the type of transactions relevant for an individual's eligibility determination, updating the nonprocurement regulation citation to 2 CFR part 180 and part 1532 because the EPA definition of covered transaction was moved from 40 CFR 32.200, and re-numbering routine use 3 to routine use 6.

• For routine use 4, re-numbering to routine use 7.

• For routine use 5, removing the disclosure of settlement agreements from the routine use because settlement agreements are now uploaded to the Federal Awardee Performance and Integrity Information System (FAPIIS) as discussed in new routine use 2, and re-numbering to routine use 8.

The general routine uses A, B, C, D, E, F, G, H, I, and K continue to apply to the system. The Office of Mission Support is adding new general routine uses L and M and the following new routine uses:

• A new routine use “2” for disclosing records to GSA in accordance with Section 872 of The Duncan Hunter National Defense Authorization Act of 2009 (Pub. L. 110-417) which requires the public disclosure of suspension and debarment administrative agreements in FAPIIS.

• A new routine use “4” for disclosing records to individual respondents and related respondents or the authorized representatives of related respondents. A respondent is a person against whom a suspension or debarment action has been initiated or may be initiated. The Office of Mission Support is adding a new routine use 4 to disclose records to any individual who is the subject of a suspension or debarment case action as an actual or potential respondent in a suspension and debarment matter. This routine use addresses situations where the Office of Mission Support discloses to a respondent his or her own records in a suspension and debarment matter. The new routine use 4 is also adding the disclosure of records to related respondents and authorized representatives of related respondents. This routine use addresses situations where the Office of Mission Support initiates a case action where individuals or other persons are involved in the same misconduct that is the action basis for the suspension or debarment matter and the records are disclosed to all the respondents in order to give them notice and an opportunity to respond to the suspension or debarment action. The Office of Mission Support proposes to disclose records to related respondents or their authorized representatives only when by careful review the Agency determines that the records are both relevant and necessary to the related respondent's suspension or debarment proceeding.

• A new routine use “5” for disclosing records to other federal agencies coordinating with the EPA in suspension and debarment case actions. The Office of Mission Support participates in a government-wide system for debarment and suspension from programs and activities involving federal financial and nonfinancial assistance and benefits. Because suspension and debarment actions have governmentwide effect, the Office of Mission Support engages in a lead agency coordination process when using a suspension or debarment remedy.

Fifth, the Office of Mission Support is modifying the policies and practices for storage, retrieval, and retention and disposal of records to describe those that apply to the use of electronic records in the new CADS system.

Sixth, the Office of Mission Support is modifying the administrative, technical, and physical safeguards to describe those that apply to the management of electronic records in the new CADS system.

Lastly, the Office of Mission Support is adding authorities for the maintenance of the system to include those relevant to electronic recordkeeping and to add relevant suspension and debarment regulations.

All other elements of EPA-33 will transfer to the modified system of records notice for Case Application for Debarment and Suspension. The system continues to be maintained by the Office of Mission Support, previously known as the Office of Administration and Resource Management.

SYSTEM NAME AND NUMBER:

Case Application for Debarment and Suspension, EPA-33

SECURITY CLASSIFICATION:

Unclassified.

SYSTEM LOCATION:

National Computer Center (NCC), 109 TW Alexander Drive, Research Triangle Park, Durham, NC 27711.

SYSTEM MANAGER(S):

Michael Osinski, Director, Office of Grants and Debarment, Office of Mission Support, Environmental Protection Agency, Ronald Reagan Building, Mailcode 3901R, 1300 Pennsylvania Avenue NW, Washington, DC 20460; telephone number, (202) 564-3792; email address, Osinski.Michael@epa.gov.

AUTHORITY FOR MAINTENANCE OF THE SYSTEM:

Government Paperwork Elimination Act (Pub. L. 105-277, 44 U.S.C. 3504); 33 U.S.C. 1368; 42 U.S.C. 7606; Executive Order 11738, Providing for administration of the Clean Air Act and the Federal Water Pollution Control Act with respect to Federal contracts, grants, or loans (38 FR 25161, 3 CFR, 1971-1975 Comp., p. 799); Executive Order 12549, Debarment and Suspension (51 FR 6370, 3 CFR, 1986 Comp., p. 189); Executive Order 12689 (54 FR 34131, 3 CFR, 1989 Comp., p. 235); the Federal Acquisition Streamlining Act of 1994, Public Law 103-355, 31 U.S.C. 6101 note; 2 CFR part 180—the Office of Management and Budget Guidelines to Agencies on Governmentwide Debarment and Suspension (Nonprocurement); 2 CFR part 1532—Nonprocurement Debarment and Suspension; and the Federal Acquisition Regulation, 48 CFR subpart 9.4—Debarment, Suspension, and Ineligibility.

PURPOSE(S) OF THE SYSTEM:

The purpose of CADS is to assist the Office of Mission Support in processing, investigating, and maintaining records relevant to suspension and debarment case actions. The Office of Mission Support utilizes suspension and debarment as an administrative tool to address waste, fraud, abuse, poor performance, environmental noncompliance or other misconduct by excluding individuals from participating in federal procurement or nonprocurement programs. The Office of Mission Support is also responsible for implementing a statutory debarment authority that arises by operation of law under the Clean Air Act section 306 or Clean Water Act section 508. This statutory debarment authority prohibits the Federal Government from entering into contracts or nonprocurement transactions at violating facilities unless and until the EPA Suspension and Debarment Official can certify that the conditions that gave rise to the Clean Air Act or Clean Water Act conviction have been corrected. This system of records also assists the Office of Mission Support in assembling information in order to conduct and document suspension and debarment proceedings; to ensure that federal contracts and federal assistance, loans, and benefits are awarded to responsible business entities and individuals; and to ensure the government conducts business with persons at facilities that are in compliance with the Clean Air Act or Clean Water Act.

CATEGORIES OF INDIVIDUALS COVERED BY THE SYSTEM:

(1) Individuals who have been suspended, proposed for debarment, or debarred from federal procurement and assistance programs; (2) Individuals who have been the subject of agency inquiries to determine whether they should be debarred and/or suspended from federal procurement and assistance programs; and (3) Individuals who have been convicted and are subject to an exclusion by operation of law under Clean Air Act section 306 or Clean Water Act section 508.

CATEGORIES OF RECORDS IN THE SYSTEM:

Records include information on individuals and firms excluded or considered for exclusion from federal acquisition or assistance programs as a result of suspension or debarment proceedings initiated by the EPA, or as a result of a statutory exclusion arising by operation of law upon conviction pursuant to Clean Air Act section 306 or Clean Water Act section 508. Such information includes, but is not limited to, names and residential addresses of individuals; email addresses of individuals; business addresses associated with individuals; phone numbers associated with individuals; evidence obtained in support of suspension and debarment case actions; records submitted by individuals or other persons (corporations, partnerships, associations, unit of governments, or legal entities, however organized, or their authorized representative); administrative agreements; audits of administrative agreements; and final decisions or reinstatement determinations. Examples of records include correspondence, inspection reports, memoranda of interviews, contracts, assistance agreements, indictments, judgment and conviction orders, plea agreements, and corporate information. Records such as court documents or reports from commercial databases may contain individuals' Social Security Numbers and dates of birth. Computer generated records include data and reports regarding categories and status of cases.

RECORD SOURCE CATEGORIES:

EPA and other federal officials, state and local officials, businesses and other entities who may have information relevant to an inquiry, individuals who have been statutorily excluded, suspended, proposed for debarment or debarred, and their authorized representatives.

ROUTINE USES OF RECORDS MAINTAINED IN THE SYSTEM, INCLUDING CATEGORIES OF USERS AND PURPOSES OF SUCH USES:

The following routine uses apply to this system because the use of the record is necessary for the efficient conduct of government operations. The routine uses below are both related to and compatible with the original purpose for which the information was collected. The following general routine uses apply to this system (73 FR 2245):

A. Disclosure for Law Enforcement Purposes: Information may be disclosed to the appropriate federal, state, local, tribal, or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested,) when necessary to obtain information relevant to an agency decision concerning retention of an employee or other personnel action (other than hiring,) retention of a security clearance, the letting of a contract, or the issuance or retention of a grant, or other benefit.

C. Disclosure to Requesting Agency: Disclosure may be made to a federal, state, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another federal agency for criminal, civil, administrative, personnel, or regulatory action.

D. Disclosure to Office of Management and Budget: Information may be disclosed to the Office of Management and Budget at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

K. Disclosure in Connection With Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12:

L. Disclosure to Persons or Entities in Response to an Actual or Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to Assist Another Agency in Its Efforts to Respond to a Breach of Personally Identifiable Information: To another federal agency or federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Records may also be disclosed:

1. Disclosure to the System for Award Management: To the General Services Administration (GSA) to compile and maintain the System for Award Management (SAM) Exclusions list in accordance with FAR 9.404 and 2 CFR 180.500 and 180.505.

2. Disclosure to the Federal Awardee Performance and Integrity Information System: To the GSA for the Federal Awardee Performance and Integrity Information System (FAPIIS), which publicly discloses administrative agreements as required by Section 872 of The Duncan Hunter National Defense Authorization Act of 2009 (Pub. L. 110-417).

3. Disclosure to the Individual Respondent: To the individual person statutorily excluded, suspended, proposed for debarment, or debarred in EPA proceedings; to the individual person who has been the subject of agency inquiries to determine whether the individual person should be debarred and/or suspended from federal procurement and assistance programs; and to the authorized representatives of the individual person statutorily excluded, suspended, proposed for debarment or debarred in EPA proceedings.

4. Disclosure to Other Respondents: To persons (any individual, corporation, partnership, association, unit of government, or legal entity, however organized) who have been suspended, proposed for debarment, or debarred from federal procurement and assistance programs; persons who have been the subject of agency inquiries to determine whether they should be debarred and/or suspended from federal procurement and assistance programs; and to the authorized representatives of the persons in a suspension or debarment proceeding, when by careful review the Agency determines that the records are both relevant and necessary to the persons' suspension or debarment proceedings.

5. Disclosure to Coordinating Federal Agencies: To a federal agency coordinating with the EPA for an EPA suspension or debarment proceeding or having a suspension or debarment action involving the same person.

6. Disclosure for Eligibility Determinations: To a federal, state, or local agency, financial institution, or other entity to verify an individual's eligibility for engaging in federal procurement transactions or covered transactions as defined in FAR Subpart 9.4 and 2 CFR part 180.

7. Disclosure to Requesting Agencies for Particular Purposes: To federal, state, or local agencies, in response to requests or subpoenas, or otherwise, for the purpose(s) of: (a) Assisting them in administering federal acquisition, assistance, loan and benefit programs or regulatory programs, (b) assisting them in discharging their duties to ensure that federal contracts and assistance, loans, and benefit programs are awarded to responsible individuals and organizations, and (c) ensuring that federal, state or local regulatory responsibilities are met.

8. Disclosure of Final Decisions: To the public, upon request, and to publishers of computerized legal research systems, but such disclosures shall be limited to interim or final decisions.

POLICIES AND PRACTICES FOR STORAGE OF RECORDS:

The information collected within CADS is maintained and stored on computer storage devices physically located at NCC. These records are maintained electronically on computer storage devices such as computer tapes and disks. Backups will be maintained at a disaster recovery site. Computer records are maintained in a secure password protected environment. Access to computer records is limited to those who have a need to know. Permission level assignments will allow users access only to those functions for which they are authorized. All records are maintained in secure, access-controlled areas or buildings.

POLICIES AND PRACTICES FOR RETRIEVAL OF RECORDS:

Records are retrieved by business or organization name, by an individual's first or last name, by case number, or by file name.

POLICIES AND PRACTICES FOR RETENTION AND DISPOSAL OF RECORDS:

Records are retained in accordance with the EPA's Records Schedules 1016(c) and 0090(d) and disposed of under National Archives and Records Administration (NARA) disposal authority DAA-0412-2013-0015-0003.

ADMINISTRATIVE, TECHNICAL, AND PHYSICAL SAFEGUARDS:

Security controls used to protect personal sensitive data in CADS are commensurate with those required for an information system rated MODERATE for confidentiality, integrity, and availability, as prescribed in National Institute of Standards and Technology (NIST) Special Publication, 800-53, “Security and Privacy Controls for Federal Information Systems and Organizations,” Revision 5.

1. Administrative Safeguards: Personnel are instructed to lock their computer when they leave their desks. Personnel receive annual Information Security and Privacy Awareness training and are regularly reminded about appropriate personally identifiable information handling procedures. In addition to the Agency's Rules of Behavior and Privacy Act training that personnel undergo, CADS users are required to sign a Rules of Behavior document and a Request for Remote Access and Use of Sensitive Personally Identifiable Information document before they are granted access to CADS.

2. Technical Safeguards: Access to CADS is strictly controlled and is limited to those with an operational need to access the information. Access is granted and managed by CADS Administrators. Access to the EPA Virtual Private Network requires two-factor authentication accomplished by using Personal Identity Verification (PIV) cards that are issued to all personnel based on the requirements of Homeland Security Presidential Directive 12 (HSPD 12). Access to CADS is restricted to users on the EPA Virtual Private Network who have been granted permission by a CADS administrator to have access to CADS. CADS access is username and password protected.

3. Physical Safeguards: EPA employees and contractors involved in the management, design, development, implementation and execution of CADS will have monitored access to CADS. Only individuals who have the proper authorization and who perform functions related to CADS are allowed to access any information. Entry to the EPA facility and within the facility to specific spaces at the NCC is achieved using HSPD-12 PIV cards on door readers. PIV cards are only issued to personnel who have met EPA's initial security screening requirements. Security Guards at all entrances confirm that the PIV card is valid, unexpired and reflects the identity of the card holder. Entry to the server rooms is only available to personnel using their PIV cards on door readers, where those personnel have been approved for elevated access (meaning they have undergone a more rigorous security screening). The NCC maintains an Access Control List to ensure access to server rooms is limited to approved personnel only.

RECORD ACCESS PROCEDURES:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORD PROCEDURES:

Requests for correction or amendment must identify the record to be changed and the corrective action sought. Complete EPA Privacy Act procedures are described in EPA's Privacy Act regulations at 40 CFR part 16.

NOTIFICATION PROCEDURE:

Individuals who want to know whether this system of records contains information about them should make a written request to the EPA, Attn: Agency Privacy Officer, MC 2831T, 1200 Pennsylvania Ave. NW, Washington, DC 20460, privacy@epa.gov.

EXEMPTIONS PROMULGATED FOR THE SYSTEM:

None.

HISTORY:

60 FR 51791 (October 3, 1995)—Creation of the “Debarment and Suspension Files” system of records.

67 FR 8246 (February 22, 2002)—Republication of Existing System of Records.

Vaughn Noga,
Senior Agency Official for Privacy.

[FR Doc. 2021-11756 Filed 6-3-21; 8:45 am]

BILLING CODE 6560-50-P